DEPARTMENT OF THE INTERIOR

National Park Service

[NPS-WASO-NAGPRA-NPS0039346; PPWOCRADN0-PCU00RP14.R50000]

Notice of Inventory Completion: U.S. Department of the Interior, Fish and Wildlife Service, Iroquois National Wildlife Refuge, Basom, NY

AGENCY: National Park Service, Interior.

ACTION: Notice.

SUMMARY: In accordance with the Native American Graves Protection and Repatriation Act (NAGPRA), the U.S. Department of the Interior, U.S. Fish and Wildlife Service (USFWS), Northeast Region, Iroquois National Wildlife Refuge (NWR) has completed an inventory of human remains and associated funerary objects and has determined that there is a cultural affiliation between the human remains and associated funerary objects and Indian Tribes or Native Hawaiian organizations in this notice.

DATES: Repatriation of the human remains and associated funerary objects in this notice may occur on or after February 18, 2025.

ADDRESSES: Thomas Roster, Refuge Manager, U.S. Fish and Wildlife Service, Northeast Region, Iroquois National Wildlife Refuge, 1101 Casey Road, Basom, NY 14013, telephone (585) 948-5445 Ext. 7030, email tom_roster@fws.gov.

SUPPLEMENTARY INFORMATION: This notice is published as part of the National Park Service's administrative responsibilities under NAGPRA. The determinations in this notice are the sole responsibility of the USFWS, and additional information on the determinations in this notice, including the results of consultation, can be found in its inventory or related records. The National Park Service is not responsible for the determinations in this notice.

Abstract of Information Available

Based on the available information, human remains representing, at least, two individuals have been reasonably identified. The seven associated funerary objects include ground stone gorgets, a lithic flake, worked antler, a pipe stem, faunal remains, and a ceramic fragment. The individuals and associated funerary objects were donated to the USFWS by the Owens Family between 1992 and 2000. The individuals and associated funerary objects were likely collected as early as 1962 at the Iroquois National Wildlife Refuge, most likely near Feeder Road and Suttons Marsh. In addition, a friend of the Owens Family noted that a portion of the materials may have also been collected from the Tonawanda Wildlife Management Area, which included one site that was transferred to the Tonawanda Indian Reservation. No additional provenience information is known.

Cultural Affiliation

Based on the information available and the results of consultation, cultural affiliation is reasonably identified by the geographical location of the individuals and associated funerary objects described in this notice.

Determinations

The USFWS has determined that:

• The human remains described in this notice represent the physical remains of two individuals of Native American ancestry.

• The seven objects described in this notice are reasonably believed to have been placed intentionally with or near individual human remains at the time of death or later as part of the death rite or ceremony.

• There is a connection between the human remains and associated funerary objects described in this notice and the Tonawanda Band of Seneca.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 18, 2025. If competing requests for repatriation are received, the USFWS must determine the most appropriate requestor prior to repatriation. Requests for joint repatriation of the human remains and associated funerary objects are considered a single request and not competing requests. The USFWS is responsible for sending a copy of this notice to the Indian Tribes and Native Hawaiian organizations identified in this notice.

Authority: Native American Graves Protection and Repatriation Act, 25 U.S.C. 3003, and the implementing regulations, 43 CFR 10.10.

Dated: January 13, 2025.
Melanie O'Brien,
Manager, National NAGPRA Program.

[FR Doc. 2025-01188 Filed 1-16-25; 8:45 am]

BILLING CODE 4312-52-P